DEPARTMENT OF HEALTH AND HUMAN SERVICES

Administration for Community Living

Notice of Intent To Award a Single Source Non-Competing Supplement to the Native American Elder Justice Initiative (NAEJI)

SUMMARY: In 2014, ACL announced a funding opportunity known as “the Native American Elder Justice Initiative” that awarded funds to the University of North Dakota (UND) National Indigenous Elder Justice Initiative (NIEJI), to address the need for more culturally appropriate information and community education materials on elder abuse, neglect, and exploitation in Indian Country. The one year extension will enable NIEJI to (1) continue to develop culturally appropriate para-professional training to tribal aging networks, including work with community health representatives, Senior Companions and Foster Grandparents; (2) develop additional training modules around aspects of elder neglect, exploitation and abuse; (3) continue to work with individual tribes and tribal organizations seeking direction on developing prevention and awareness programs, and to (4) provide on-going training to tribal aging and health programs.

DATES: Estimated Project Period—August 1, 2017-July 31, 2018.

SUPPLEMENTARY INFORMATION: Program Name: Native American Elder Justice Initiative Program- University of North Dakota/National Indigenous Elder Justice Initiative.

Award Amount: $200,000.

Award Type: Cooperative Agreement.

Statutory Authority: This program is authorized under Title II, Section 201(c)(3)(H) (42 U.S.C.3011).

Catalog of Federal Domestic Assistance (CFDA) Number: 95.047.

Program Description: The Administration on Aging, an agency of the U.S. Department of Health and Human Service's Administration for Community Living, has funded the University of North Dakota's (UND) National Indigenous Elder Justice Initiative (NIEJI) under the Native American Elder Justice Initiative (NAEJI) Program since August 1, 2014. The purpose of the initiative is to address the lack of culturally appropriate information and community education materials on elder abuse, neglect, and exploitation in Indian Country. Some of the undertakings of the initiative that are included will be (1) to maintain a resource center on elder abuse to assist tribes in addressing indigenous elder abuse, neglect and exploitation; (2) to identify and make available existing literature; (3) to develop resources and tribal codes that address indigenous elder abuse; and (4) to develop and disseminate culturally appropriate and responsive resources for use by tribes, care providers, law enforcement and other stakeholders. UND/NIEJI has experience working with elder justice issues throughout Indian country and is recognized as the prevention specialist in this area. Changing recipients at this time would necessitate a break in the established workflow and additional time to familiarize a new grantee with the project and working with Indian Country. The research specialist who directs the project has grown with NIEJI and is recognized for that work throughout Indian Country. UND/NIEJI currently educates and collaborates with law enforcement, caregivers and social services providers throughout Indian Country on elder justice issues through the “Native American Elder Abuse Online Educational Training Modules” designed by NIEJI. Additionally UND/NIEJI is currently working to complete three additional trainings and will be utilized by individuals and groups working in Indian Country on elder justice priorities and other elder abuse issues. This initiative was developed to address the unique cultural aspects of abuse, neglect and exploitation and to assist tribes in developing an appropriate response to fit the needs of their particular communities in protecting tribal elders.

Agency Contact: For further information or comments regarding this supplemental action, contact Cynthia LaCounte, U.S. Department of Health and Human Services, Administration for Community Living, Administration on Aging, 330 C Street SW., Washington DC 20201; telephone 202-795-7380; email Cynthia.LaCounte@acl.hhs.gov.

Dated: June 13, 2017.
Daniel P. Berger,
Acting Administrator and Assistant Secretary for Aging.

[FR Doc. 2017-12753 Filed 6-19-17; 8:45 am]

BILLING CODE 4154-01-P